DEPARTMENT OF THE INTERIOR

Bureau of Land Management

[LLCAN00000.L18200000.XZ0000]

Notice of Public Meeting: Northeast California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northeast California Resource Advisory Council will meet as indicated below.

DATES: The committee will meet Wednesday and Thursday, April 20 and 21, 2011, in Burney, California. On April 20, the RAC will convene at 10 a.m. at the Veterans Memorial Hall, 37410 Main Street, and depart on a field tour. Members of the public are welcome. They must provide their own transportation, food and beverages. On April 21, the council meets from 8 a.m. until 2 p.m. at the Veterans Memorial Hall. The public is welcome.

FOR FURTHER INFORMATION CONTACT: Nancy Haug, BLM Northern California District manager, (530) 224-2160; or Joseph J. Fontana, BLM public affairs officer, (530) 252-5332.

SUPPLEMENTARY INFORMATION: The 15-member council advises the Secretary of the Interior, through the BLM, on a variety of planning and management issues associated with public land management in northeast California and the northwest corner of Nevada. Agenda items at this meeting include management of wild horses and burros, alternative energy proposals on public lands, and ongoing land and natural resources issues in northeast California. The council will accept public comments at 11 a.m. Depending on the number of persons wishing to speak, and the time available, the time for individual comments may be limited. Members of the public are welcome on field tours, but they must provide their own transportation, food and beverages. Individuals who plan to attend and need special assistance, such as sign language interpretation and other reasonable accommodations, should contact the BLM as provided above.

Dated: March 15, 2011.
Joseph J. Fontana,
Public Affairs Officer.

[FR Doc. 2011-6639 Filed 3-21-11; 8:45 am]

BILLING CODE 4310-40-P